DEPARTMENT OF EDUCATION

[CFDA Nos. 84.007, 84.032, 84.033, 84.038, 84.063, 84.069, and 84.268]

Student Assistance General Provisions, Federal Supplemental Educational Opportunity Grant, Federal Family Education Loan, Federal Work-Study, Federal Perkins Loan, Federal Pell Grant, Leveraging Educational Assistance Partnership, and William D. Ford Federal Direct Loan Programs; Notice of Deadline and Submission Dates for Receipt of Applications, Reports, and Other Documents for the 2002-2003 Award Year

SUMMARY: The Secretary announces deadline submission dates for receiving documents from institutions and applicants for assistance under the Federal student aid programs authorized under Title IV of the Higher Education Act of 1965, as amended for the 2002-2003 award year. The Federal student aid programs include the Federal Perkins Loan, Federal Work-Study, Federal Supplemental Educational Opportunity Grant, Federal Family Education Loan, William D. Ford Federal Direct Loan, Federal Pell Grant, and Leveraging Educational Assistance Partnership programs.

These programs, administered by the U.S. Department of Education (Department), provide assistance to students attending eligible institutions of higher education to help them pay their educational costs.

Deadline and Submission Dates: See Tables A and B at the end of this notice.

Table A—Deadline Dates for Application Processing and Receipt of Student Aid Reports (SARs) or Institutional Student Information Records (ISIRs) by Institutions

Table A provides deadline dates for application processing, including corrections, and, for purposes of the Federal Pell Grant Program, receipt by institutions of valid Student Aid Reports (SARs) or valid Institutional Student Information Records (ISIRs).

Table B—Federal Pell Grant Program Submission Dates for Disbursement Information by Institutions

Beginning with the 2002-2003 award year, the Common Origination and Disbursement (COD) system replaces the Recipient Financial Management System (RFMS) for purposes of the Federal Pell Grant Program. There are two categories of institutions participating in COD: full-participant institutions and phase-in institutions. Full-participant institutions are institutions that interface directly with COD by using the COD common record. Phase-in institutions are institutions that send records to COD using the RFMS legacy record formats.

Table B provides the earliest submission and deadline dates for both full-participant institutions and phase-in institutions to submit Federal Pell Grant disbursement information.

In general, an institution must submit disbursement information no later than 30 days after disbursing or becoming aware of the need to adjust a student's Federal Pell Grant. The Secretary considers a disbursement of Federal Pell Grant funds to occur on the earlier of the date that the institution: (a) Credits those funds to a student's account in the institution's general ledger or any subledger of the general ledger, or (b) pays those funds to a student directly. The Secretary considers a disbursement to have occurred even if institutional funds are used in advance of receiving program funds from the Department (34 CFR 668.164(a)). An institution's failure to submit disbursement information within the required 30-day timeframe may result in an audit or program review finding for an institution. In addition, the Secretary may initiate an adverse action, such as a fine or other penalty for such failure.

Table B also provides the latest date an institution may request Year-To-Date records and administrative relief.

Proof of Delivery

If the documents are submitted by mail, the Secretary accepts as proof of delivery one of the following:

(1) A legible mail receipt with the date of mailing stamped by the U.S. Postal Service.

(2) A legibly-dated U.S. Postal Service postmark.

Note: The U.S. Postal Service does not uniformly provide a dated postmark. Before relying on this method of proof of mailing, check with the post office at which the submission was mailed. The Secretary strongly encourages the use of First Class Mail.

(3) Other proof of mailing or delivery acceptable to the Secretary.

Other Sources for Detailed Information

The Department publishes a more detailed discussion of the Federal student aid application process in the following publications:

• 2002-2003 Student Guide.

• Funding Your Education.

• 2002-2003 High School Counselor's Handbook.

• A Guide to 2002-2003 SARs and ISIRs.

• 2002-2003 Federal Student Aid Handbook.

Additional information on the institutional reporting requirements for the Federal Pell Grant Program is also contained in the Federal Student Aid Handbook. These materials may be found at the Information for Financial Aid Professionals Web site at:

http://www.ifap.ed.gov.

Applicable Regulations: The following regulations apply: (1) Student Assistance General Provisions, 34 CFR part 668 and (2) Federal Pell Grant Program, 34 CFR part 690.

FOR FURTHER INFORMATION CONTACT: Jacquelyn C. Butler, Program Specialist, U.S. Department of Education, Federal Student Aid, 830 First Street, NE., Union Center Plaza, room 93I1, Washington, DC 20202-5345. Telephone: (202) 377-4013.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

You may also view this document in text or PDF at the following site:

http://www.ifap.ed.gov.

Note: The official version of this document is the document published in the Federal Register. Free Internet access to the official edition of the Federal Register and the Code of Federal Regulations is available on GPO Access at: http://www.access.gpo.gov/nara/index.html.

Program Authority: 20 U.S.C. 421-429, 1070a, 1070b-1070b-3, 1070c-1070c-4, 1071-1087-2, 1087a, and 1087aa-1087ii; 42 U.S.C. 2751-2756b.

Dated: August 12, 2002.
Candace M. Kane,
Acting, Chief Operating Officer, Federal Student Aid.

BILLING CODE 4000-01-P

[FR Doc. 02-20725 Filed 8-14-02; 8:45 am]

BILLING CODE 4000-01-C